DEPARTMENT OF ENERGY

Federal Energy Regulatory Commission

[Docket No. MT00-8-000]

Natural Gas Pipeline Company of America; Notice of Proposed Changes in FERC Gas Tariff

June 29, 2000.

Take notice that on June 26, 2000, Natural Gas Pipeline Company of America (Natural) tendered for filing as part of its FERC Gas Tariff, Sixth Revised Volume No. 1, the following tariff sheets, to become effective August 1, 2000:

Eleventh Revised Sheet No. 3

Fourth Revised Sheet No. 360

Fourth Revised Sheet No. 361

Natural states that on April 5, 2000, Kinder Morgan, Inc. closed on a transaction with ONEOK, Inc. (ONEOK) whereby various assets and entities were transferred to ONEOK, including all entities that were then marketing affiliates of Natural. As a result of the transaction, Natural states that it no longer has a marketing affiliate and is revising its Tariff accordingly.

Natural respectfully requests waiver of any provisions of its Tariff and/or the Commission's Regulations required to permit the instant filing to become effective as proposed.

Natural states that copies of the filing are being mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-16993 Filed 7-5-00; 8:45 am]

BILLING CODE 6717-01-M